DEPARTMENT OF COMMERCE

National Oceanic and Atmospheric Administration

[Docket No. 0612242720-91220-04]

Coastal and Estuarine Land Conservation Program—Re-opening of FY 2010 Competition

AGENCY: NOS Office of Ocean and Coastal Resource Management (OCRM), National Ocean Service (NOS), National Oceanic and Atmospheric Administration (NOAA), Commerce.

ACTION: Notice of funding availability; amendment.

SUMMARY: NOAA publishes this notice to amend the Federal Funding Opportunity (NOS-OCRM-2010-2001655) entitled “Coastal and Estuarine Land Conservation Program (CELCP)—FY 2010 Competitive List” which was originally announced in the Federal Register on January 2, 2009 (74 FR 82). This notice announces changes to the eligibility criteria, program priorities, and selection criteria to implement the requirements of the Omnibus Public Lands Management Act of 2009 (March 30, 2009). As a result of these changes, the application period for proposals is re-opened to provide eligible states and territories with the opportunity to adjust project proposals to comport with the changes, which are summarized in this notice and more fully described in the full Federal Funding Opportunity (FFO) Announcement for this competition.

DATES: Final Applications must be received by Grants.gov (http://www.grants.gov) or be delivered to the OCRM office (address listed in this announcement) no later than 6 p.m. EDT on September 18, 2009. No facsimile or electronic mail applications will be accepted. Paper applications delivered after the deadline will not be accepted, regardless of postmark date. Any application received after the deadline will not be considered for funding in this competition.

Applications delivered in hard copy will be date and time stamped when they are received. Applications submitted through Grants.gov will have a date and time indication on them. Please Note: It may take Grants.gov up to two (2) business days to validate or reject the application. Please keep this in mind in developing your submission timeline.

ADDRESSES: All application materials can be found at the grants.gov portal at http://www.grants.gov or NOAA's CELCP Web site under “Funding Opportunities” (http://coastalmanagement.noaa.gov/land/celcp_fundingop.html). They may also be requested by contacting the program officials identified below.

To Request an Application Package or for Further Information Contact: Elaine Vaudreuil (301) 713-3155 ext 103; E-mail: Elaine.Vaudreuil@noaa.gov; Fax: (301) 713-4370 or Elisabeth Morgan (301) 713-3155 ext 166; E-mail: Elisabeth.Morgan@noaa.gov; Fax: (301) 713-4367.

SUPPLEMENTARY INFORMATION: The National Oceanic and Atmospheric Administration (NOAA), National Ocean Service (NOS), announces that it is amending the FY 2010 solicitation for the Coastal and Estuarine Land Conservation Program (CELCP), originally published on January 2, 2009 (74 FR 82), to implement requirements in the Omnibus Public Lands Management Act of 2009, Public Law 111-11 (March 30, 2009). The program makes the following changes to the program requirements: at least 15% of appropriated funds shall now be available for CELCP projects that benefit National Estuarine Research Reserves; the program allows newly-eligible sources of in-kind match, including lands or interests in lands (easements) held by qualified non-governmental organizations and costs associated with lands or easements proposed for use as in-kind match, such as land acquisition expenses, land management planning, remediation, restoration or enhancement, that were not previously eligible; the value of in-kind match properties will now be based on the appraised value of the land or easement at the time of grant closing (which, for the purposes of this competition, valuation should be conducted within the nine months preceding the award expiration date) rather than at the time the property is acquired or donated; applicants must demonstrate that property sellers are willing participants in negotiations for sale of property at a mutually agreeable price; coastal states and territories must now ensure that proposed projects complement working waterfront needs; greater emphasis will be placed on applicants' ability to demonstrate successful leveraging of funds; and NOAA may now select projects from this competition for additional FY 2010 funding requested in the President's Budget as part of EPA's Great Lakes Restoration Initiative, if appropriated.

Due to the amendments to the program, the due date for applications is extended until September 18, 2009. It is anticipated that projects funded under this announcement will still have a grant start date between March 1, 2010, and October 1, 2010.

Under this amended solicitation, NOS allows for modifications to applications originally received under the initial announcement, and allows new applications for projects from eligible applicants. Any proposal that was submitted to the initial solicitation within the initial deadline is not required to be resubmitted to be considered under this amendment. However, changes to the solicitation announced by this amendment may impact the viability or scoring of proposals submitted by applicants in response to the initial announcement. Applicants may revise proposals to address these changes; however, any revisions to such proposals must be submitted by the new deadline in order for the revised changes to be considered under this amended solicitation. An applicant may submit up to three projects for this competition. The maximum amount that may be requested for the Federal share of each project is $3,000,000.

The following sections of that Federal Funding Opportunity have been amended to reflect the changes announced in this notice: “Dates,” “Funding Opportunity Description,” “Award Information,” “Eligibility Information,” “Application and Submission Information”, “Application Review Information,” and “Award Administration Information”.

Electronic Access: The full text of the full funding opportunity announcement for this program can be accessed via the Grants.gov Web site at http://www.grants.gov or NOAA's CELCP Web site under “Funding Opportunities” (http://coastalmanagement.noaa.gov/land/celcp_fundingop.html). The announcement will also be available by contacting the program officials identified under FOR FURTHER INFORMATION CONTACT. Applicants must comply with all requirements contained in the full funding opportunity announcement.

Statutory Authority: Public Law 111-11 (March 30, 2009) (formerly 16 U.S.C. l456d).

Funding Availability: NOAA anticipates that approximately 20-60 projects may be included on a competitively-ranked list of projects that are ready and eligible for funding in FY 2010. Funding for projects is contingent upon availability of Federal appropriations for FY 2010. Applicants are hereby given notice that funds have not yet been appropriated for this program. The FY 2010 President's request for CELCP is $15 million, and the request for EPA's Great Lakes Restoration Initiative includes an additional $5 million for CELCP projects in Great Lakes states. Annual appropriated funding levels for the CELCP have ranged from $8-$50 million from FY 2002-2009. Eligible applicants may submit up to three projects for this competition. The maximum amount that may be requested for the Federal share of each project is $3,000,000.

The standard grant award period is 18 months. NOAA may extend the performance period for project grants up to an additional 18 months (for a maximum total performance period of 3 years) if circumstances warrant and if progress on the project is being demonstrated.

CFDA: 11.419 Coastal Management Administration Awards.

Eligibility: Only coastal states and territories with a Coastal Zone Management Program or National Estuarine Research Reserve approved under the CZMA and which have submitted a draft CELCP plan on or before February 24, 2009, are eligible to participate in this competition. A list of the status of each state and territory's CELCP plan, including the states and territories eligible for this competition, is available at http://coastalmanagement.noaa.gov/land/media/CELCPplans_web.pdf. The designated lead agency for implementing CELCP in each state or territory (“lead agency”) is eligible to submit projects for funding under this competition. A list of lead contacts for each state and territory is available on the CELCP Web site at http://coastalmanagement.noaa.gov/land/meadia/celcpstateleadcontacts.pdf, or by contacting the program officials identified in FOR FURTHER INFORMATION CONTACT. The designated lead agency may solicit, and include in their application, project proposals from additional eligible state or territorial agencies, local governments as defined at 15 CFR 24.3, or entities eligible for assistance under section 306A(e) of the CZMA (16 U.S.C. 1455a(e)), provided that each has the authority to acquire and manage land for conservation purposes. Interested parties should contact the appropriate CELCP lead in each state or territory.

Intergovernmental Review: Applications under this program are subject to Executive Order 12372, “Intergovernmental Review of Federal Programs” for states that participate in this process. A list of the participating states and the clearinghouse points of contact can be found at http://www.whitehouse.gov/omb/grants/spoc.html.

Limitation of Liability

In no event will NOAA or the Department of Commerce be responsible for proposal preparation costs if this program fails to receive funding or is cancelled because of other agency priorities. Publication of this announcement does not oblige NOAA to award any specific project or to obligate any available funds. Recipients and subrecipients are subject to all Federal laws and agency policies, regulations and procedures applicable to Federal financial assistance awards.

National Environmental Policy Act (NEPA):

NEPA and the Council on Environmental Quality (CEQ) implementing regulations (40 CFR parts 1500 through 1508) require that an environmental analysis be completed for all major Federal actions significantly affecting the environment. NEPA applies to the actions of Federal agencies and may include a Federal agency's decision to fund non-Federal projects under grants and cooperative agreements. Detailed information on NOAA compliance with NEPA can be found at the following NOAA NEPA Web site: http://nepa.noaa.gov/, including our NOAA Administrative Order 216-6 for NEPA, http://www.nepa.noaa.gov/NAO216_6_TOC.ped and CEQ implementation regulations, http://ceg.eh.doe.gov/nepa/regs/ceq/toc_ceq.htm. Consequently, as part of all project application packages, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements contained in the Federal Register notice of February 11, 2008 (73 FR 7686) are applicable to this solicitation.

Paperwork Reduction Act:

This collection of information contains requirements subject to the Paperwork Reduction Act (PRA). The use of Standard Forms 424, 424A, 424B and SF-LLL and CD-346 has been approved by the Office of Management and Budget (OMB) under the respective control numbers 0348-0043, 0348-0044, 0348-0040, 0348-0046 and 0605-0001. Notwithstanding any other provision of law, no person is required to respond to, nor shall any person be subject to a penalty for failure to comply with, a collection of information subject to the requirements of the PRA unless that collection of information displays a currently valid OMB control number.

Executive Order 12866:

It has been determined that this notice is not significant for purposes of Executive Order 12866.

Executive Order 13132 (Federalism):

It has been determined that this notice does not contain policies with Federalism implications as that term is defined in Executive Order 13132.

Administrative Procedure Act/Requlatory Flexibility Act:

Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. et seq.) are inapplicable. Therefore, a regulatory flexibility analysis is not required and has not been prepared.

Dated: August 13, 2009.
John H. Dunnigan,
Assistant Administrator, National Ocean Service, NOAA.

[FR Doc. E9-19821 Filed 8-18-09; 8:45 am]

BILLING CODE 3510-22-M